DEPARTMENT OF COMMERCE

Foreign-Trade Zones Board

[S-110-2017]

Approval of Subzone Expansion; Lam Research Corporation, Fremont and Livermore, California

On July 20, 2017, the Executive Secretary of the Foreign-Trade Zones (FTZ) Board docketed an application submitted by the City of San Jose, grantee of FTZ 18, requesting an expansion of Subzone 18F, subject to the existing activation limit of FTZ 18, on behalf of Lam Research Corporation, in Fremont and Livermore, California.

The application was processed in accordance with the FTZ Act and Regulations, including notice in the Federal Register inviting public comment (82 FR 34475-3476, July 25, 2017). The FTZ staff examiner reviewed the application and determined that it meets the criteria for approval. Pursuant to the authority delegated to the FTZ Board Executive Secretary (15 CFR 400.36(f)), the application to expand Subzone 18F was approved on September 14, 2017, subject to the FTZ Act and the Board's regulations, including Section 400.13, and further subject to FTZ 143's 2,000-acre activation limit.

Dated: September 22, 2017.
Andrew McGilvray,
Executive Secretary.

[FR Doc. 2017-20807 Filed 9-27-17; 8:45 am]

BILLING CODE 3510-DS-P